DEPARTMENT OF DEFENSE

Department of the Army; Corps of Engineers

Intent To Prepare a Draft Environmental Impact Statement for the Palm Beach Harbor Lake Worth Access Channel Expansion, Section 107 Small Navigation Project; Correction

AGENCY: Department of the Army, U.S. Army Corps of Engineers, DOD.

ACTION: Notice; correction.

SUMMARY: The U.S. Army Corps of Engineers (Corps), Jacksonville District published a notice of intent to prepare a Draft Environmental Impact Statement (DEIS) for the Palm Beach Harbor Lake Worth Access Channel Expansion, Section 107 Small Navigation Project on February 25, 2003 (68 FR 8744). Due to a typographical error, the Palm Beach County Department of Environmental Resources was identified as a cooperating agency and local sponsor of the project. The correction states that the preparation of the DEIS will be completed solely by the Corps, and that the local sponsor of the project is Florida Inland Navigation District (FIND).

FOR FURTHER INFORMATION CONTACT: James McAdams, 904-232-2117, Environmental Branch, Planning Division, P.O. Box 4970, Jacksonville FL 32232-0019.

Correction

In the Federal Register of February 25, 2003 (68 FR 8744) concerning intent to prepare a DEIS for the Palm Beach Harbor Lake Worth Access Channel Expansion, Section 107 Small Navigation Project on page 8744 third column, under the subheading “Agency Role” the statement should read as follows:

“The DEIS will be completed solely by the Corps of Engineers, Jacksonville District, and that the local sponsor of the project is the Florida Inland Navigation District.”

Dated: March 7, 2003.
Loren M. Mason,
Chief, Environmental Branch.

[FR Doc. 03-7500 Filed 3-27-03; 8:45 am]

BILLING CODE 3710-AJ-M